Title 3—

The President

Proclamation 9309 of August 31, 2015

National Alcohol and Drug Addiction Recovery Month, 2015

By the President of the United States of America

A Proclamation

Every day, resilient Americans with substance use disorders summon extraordinary courage and strength and commit to living healthy and productive lives through recovery. From big cities to small towns to Indian Country, substance use disorders affect the lives of millions of Americans. This month, we reaffirm our unwavering commitment to all those who are seeking or in need of treatment, and we recognize the key role families, friends, and health care providers play in supporting those on the path to a better tomorrow.

This year's theme is “Join the Voices for Recovery: Visible, Vocal, Valuable!” It encourages us all to do our part to eliminate negative public attitudes associated with substance use disorders and treatment. People in recovery are part of our communities—they are our family and friends, colleagues and neighbors—and by supporting them and raising awareness of the challenges they face, we can help eradicate prejudice and discrimination associated with substance use disorders, as well as with co-occurring mental disorders. Prevention and treatment work, and people recover—and we must ensure all those seeking help feel empowered, encouraged, and confident in their ability to take control of their future. Americans looking for help for themselves or their loved ones can call 1-800-662-HELP or use the “Treatment Locator” tool at www.SAMHSA.gov.

My Administration remains dedicated to pursuing evidence-based strategies to address substance use disorders as part of our National Drug Control Strategy. Seeking to widen pathways to recovery, our strategy supports the integration of substance use treatment into primary health care settings and the expansion of support services in places such as high schools, institutions of higher education, and throughout the criminal justice system. In the wake of public health crises related to non-medical use of prescription drugs and heroin in communities across our Nation, my Administration has pledged considerable resources to help Federal, State, and local authorities boost prevention efforts, improve public health and safety, and increase access to treatment in communities across the country. And the Affordable Care Act has extended substance use disorder and mental health benefits and Federal parity protections to millions of Americans.

Behavioral health is essential to overall health, and recovery is a process through which individuals are able to improve their wellness, live increasingly self-directed lives, and strive to fulfill their greatest potential. During National Alcohol and Drug Addiction Recovery Month, we reaffirm our belief that recovery and limitless opportunity are within reach of every single American battling substance use disorders, and we continue our work to achieve this reality.

NOW, THEREFORE, I, BARACK OBAMA, President of the United States of America, by virtue of the authority vested in me by the Constitution and the laws of the United States, do hereby proclaim September 2015 as National Alcohol and Drug Addiction Recovery Month. I call upon the people of the United States to observe this month with appropriate programs, ceremonies, and activities.

IN WITNESS WHEREOF, I have hereunto set my hand this thirty-first day of August, in the year of our Lord two thousand fifteen, and of the Independence of the United States of America the two hundred and fortieth.

[FR Doc. 2015-22327

Filed 9-2-15; 11:15 am]

Billing code 3295-F5